DEPARTMENT OF HEALTH AND HUMAN SERVICES

Centers for Disease Control and Prevention

Draft Guideline for Prevention of Intravascular Catheter-Related Infections

AGENCY: Centers for Disease Control and Prevention (CDC), Department of Health and Human Services (DHHS).

ACTION: Notice of availability and request for public comment.

SUMMARY: This notice is a request for review of and comment on the Draft Guideline for Prevention of Intravascular Catheter-Related Infections, available on the CDC website at www.cdc.gov/ncidod/hip/ivguide.htm. The guideline has been developed for practitioners who insert and maintain intravascular catheters and for personnel who are responsible for monitoring and preventing infections in healthcare settings. The guideline is intended to replace the Guideline for Prevention of Intravascular Device-Related Infections published in 1996.

DATES: Comments on the Draft Guideline for Prevention of Intravascular Catheter-Related Infections must be received in writing on or before October 22, 2001.

FOR FURTHER INFORMATION CONTACT: Requests for copies of the Draft Guideline for Prevention of Intravascular Catheter-Related Infections should be submitted to the Resource Center, Attention: IVGuide, Division of Healthcare Quality Promotion, CDC, Mailstop E-68, 1600 Clifton Rd., NE, Atlanta, Georgia 30333; fax 404 498-1244; e-mail: ivrequests@cdc.gov; or Internet: www.cdc.gov/ncidod/hip/ivguide.htm.

ADDRESSES: Comments on the Draft Guideline for Prevention of Intravascular Catheter-Related Infections should be submitted to the Resource Center, Attention: IVGuide, Division of Healthcare Quality Promotion, CDC, Mailstop E-68, 1600 Clifton Road, NE, Atlanta, Georgia 30333; fax 404-498-1244; e-mail: ivcomments@cdc.gov; or Internet: www.cdc.gov/ncidod/hip/ivguide.htm.

SUPPLEMENTARY INFORMATION: The Draft Guideline for Prevention of Intravascular Catheter-Related Infections is designed to provide healthcare practitioners with background information and specific recommendations to reduce the incidence of intravascular catheter-related bloodstream infections: Part I: Intravascular Catheter-Related Infections: An Overview reviews pivotal issues and controversies in intravascular catheter use and maintenance. These issues include definitions and diagnosis of catheter-related infection, barrier precautions during catheter insertion, skin antisepsis, intervals for replacement of catheters and intravenous fluids and administration sets, catheter site case, the role of specialized intravascular catheter personnel and the use of antimicrobial/antiseptic impregnated catheters, prophylactic systemic antibiotics, flush solutions, and anticoagulants. Part II: Recommendations for Prevention of Intravascular Catheter-Related Infections provides consensus recommendations of the Healthcare Infection Control Practices Advisory Committee (HICPAC) and other professional societies. Most recommendations are pertinent for the inpatient, outpatient, and home care setting, unless otherwise noted.

HICPAC was established in 1991 to provide advice and guidance to the Secretary and the Assistant Secretary for Health, DHHS; the Director, CDC; and the Director, National Center for Infectious Diseases, regarding the practice of infection control and strategies for surveillance, prevention, and control of healthcare-associated infections in U.S. healthcare facilities. The committee advises CDC on guidelines and other policy statements regarding prevention of healthcare-associated infections and related adverse events.

Dated: August 31, 2001.
James D. Seligman,
Associate Director for Program Services, Centers for Disease Control and Prevention.

[FR Doc. 01-22502 Filed 9-6-01; 8:45 am]

BILLING CODE 4163-18-M